NATIONAL ARCHIVES AND RECORDS ADMINISTRATION

[NARA-2017-059]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when agencies no longer need them for current Government business. The records schedules authorize agencies to preserve records of continuing value in the National Archives of the United States and to destroy, after a specified period, records lacking administrative, legal, research, or other value. NARA publishes notice in the Federal Register for records schedules in which agencies propose to destroy records they no longer need to conduct agency business. NARA invites public comments on such records schedules.

DATES: NARA must receive requests for copies in writing by September 11, 2017. Once NARA finishes appraising the records, we will send you a copy of the schedule you requested. We usually prepare appraisal memoranda that contain additional information concerning the records covered by a proposed schedule. You may also request these. If you do, we will also provide them once we have completed the appraisal. You have 30 days after we send to you these requested documents in which to submit comments.

ADDRESSES: You may request a copy of any records schedule identified in this notice by contacting Records Appraisal and Agency Assistance (ACRA) using one of the following means:

Mail: NARA (ACRA); 8601 Adelphi Road; College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Appraisal and Agency Assistance (ACRA); National Archives and Records Administration; 8601 Adelphi Road; College Park, MD 20740-6001, by phone at 301-837-1799, or by email at request.schedule@nara.gov.

SUPPLEMENTARY INFORMATION: NARA publishes notice in the Federal Register for records schedules they no longer need to conduct agency business. NARA invites public comments on such records schedules, as required by 44 U.S.C. 3303a(a).

Each year, Federal agencies create billions of records on paper, film, magnetic tape, and other media. To control this accumulation, agency records managers prepare schedules proposing records retention periods and submit these schedules for NARA's approval. These schedules provide for timely transfer into the National Archives of historically valuable records and authorize the agency to dispose of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it creates or maintains the records. Items included in schedules submitted to NARA on or after December 17, 2007, are media neutral unless the item is expressly limited to a specific medium. (See 36 CFR 1225.12(e).)

Agencies may not destroy Federal records without Archivist of the United States' approval. The Archivist approves destruction only after thoroughly considering the records' administrative use by the agency of origin, the rights of the Government and of private people directly affected by the Government's activities, and whether or not the records have historical or other value.

In addition to identifying the Federal agencies and any subdivisions requesting disposition authority, this notice lists the organizational unit(s) accumulating the records (or notes that the schedule has agency-wide applicability when schedules cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Agricultural Marketing Service (DAA-0136-2017-0001, 1 item, 1 temporary item). Case files of plant variety protection records, including certificates issued for intellectual protection and patents for new plant varieties.

2. Department of Defense, Defense Logistics Agency (DAA-0361-2017-0005, 4 items, 4 temporary items). Records relating to the disposal of government property including contracts, bid sheets, correspondence, waivers, vouchers, and similar documents.

3. Department of Homeland Security, Immigration and Customs Enforcement (DAA-0567-2015-0012, 9 items, 8 temporary items). Records of office self-inspections, external party non-disclosure agreements, and investigations or inspections of security programs, routine employee misconduct, mismanagement allegations, detention facility safety, and ICE employees testifying in criminal trials. Proposed for permanent retention are significant employee misconduct case files.

4. Department of Homeland Security, Immigration and Customs Enforcement (DAA-0567-2017-0001, 10 items, 10 temporary items). Master files of an electronic information system used to process, track, and store information about aliens who remain in the United States after receiving a final order of removal, deportation, or exclusion.

5. Department of Homeland Security, United States Citizenship and Immigration Services (DAA-0566-2017-0011, 8 items, 7 temporary items). Applications for asylum and cancellation of removal, and supporting documentation, when rejected for incorrect fees or non-sufficient funds, when having incomplete or missing signature(s), when abandoned, when denied, when terminated, when administratively closed, and when withdrawn. Proposed for permanent retention are applications for asylum and cancellation of removal, and supporting documentation, when approved.

6. Department of the Treasury, Bureau of Engraving and Printing (DAA-0318-2017-0003, 1 item, 1 temporary item). Intermediate-stage graphic image materials, such as printing plates and glass plate negatives, produced to enable the manufacture of currency and other products.

7. Department of Veterans Affairs, Veterans Health Administration (DAA-0015-2017-0001, 5 items, 5 temporary items). Records related to call centers and hotlines, including recorded calls, chat and texts, referrals, and follow-ups.

8. Department of Veterans Affairs, Veterans Health Administration (DAA-0015-2017-0002, 7 items, 7 temporary items). Records related to compliance audits, self-assessments, and training for privacy and freedom of information programs at agency facilities.

9. National Aeronautics and Space Administration, Agency-wide (DAA-0255-2017-0010, 6 items, 6 temporary items). Records of the Export Control Office, including administration records, case records, transaction records, and shipping information.

10. National Archives and Records Administration, Government-wide (DAA-GRS-2017-0008, 6 items, 6 temporary items). General Records Schedule for records of three areas of agency accountability: Internal controls, mandatory reporting on administrative functions to external agencies, and interaction with the U.S. Office of Special Counsel concerning allegations and claims that fall under its jurisdiction.

11. National Archives and Records Administration, Government-wide (DAA-GRS-2017-0010, 20 items, 20 temporary items). General Records Schedule for records related to occupational and non-occupational health including occupational injury and illness program records, occupational health and safety training, workplace environmental monitoring and exposure, Safety Data Sheets, individual medical case files, non-occupational health and wellness program records, Employee Assistance Program (EAP) counseling, Drug-free Workplace Program records, and clinic scheduling.

12. National Archives and Records Administration, Government-wide (DAA-GRS-2017-0011, 2 items, 2 temporary items). Update to General Records Schedule for employee acquisition records adding job applicant drug test records.

13. National Archives and Records Administration, Government-wide (DAA-GRS-2017-0012, 5 items, 5 temporary items). General Records Schedule for records of rulemaking, agency copies of Federal Register notices, and agency input into the unified agenda.

14. Office of Personnel Management, Agency-wide (DAA-0478-2017-0007, 1 item, 1 temporary item). Records related to merit system accountability and compliance including strategic plans, policies, procedures, and general reports.

15. United States Agency for International Development, Office of Security (DAA-0286-2017-0001, 3 items, 3 temporary items). Master files of an electronic information system used to vet funding requests by individuals, businesses, and organizations.

Laurence Brewer,
Chief Records Officer for the U.S. Government.

[FR Doc. 2017-16890 Filed 8-9-17; 8:45 am]

BILLING CODE 7515-01-P